FEDERAL COMMUNICATIONS COMMISSION

47 CFR Part 73

[DA 00-1331; MM Docket No. 99-271; RM-9696; RM-9800]

Radio Broadcasting Services; Boulder City, NV; Bullhead City, Lake Havasu City, Kingman, Dolan Springs, and Mohave Valley, AZ; Ludlow, CA

AGENCY: Federal Communications Commission.

ACTION: Final rule.

SUMMARY: The Commission, at the request of Centennial Broadcasting Licensee, LLC, and Mag Mile Media, L.L.C.: (1) Substitutes Channel 274C for Channel 288C2 at Boulder City, NV, and modifies the license of Station KSTJ to specify the higher class channel; (2) substitutes Channel 289C for Channel 274C and reallots the channel from Bullhead City to Dolan Springs, AZ, as the community's first local aural service, and modifies the license of Station KFLG-FM to specify the alternate Class C channel and Dolan Springs as its community of license; (3) substitutes Channel 272C2 for Channel 224C2 at Lake Havasu City, AZ, and modifies the license of Station KJJJ to specify the alternate Class C2 channel; (4) substitutes Channel 224C1 for Channel 290C1 at Kingman, AZ, and modifies the license of Station KRCY to specify the alternate Class C1 channel; (5) substitutes Channel 273A for Channel 289A at Ludlow, CA, and modifies the license of Station KDUQ to specify the alternate Class A channel; and (6) Channel 240A to Mohave Valley, AZ, as the community's first local aural service. See 64 FR 47483, August 31, 1999, and counterproposals thereto. A filing window for Channel 240A at Mohave Valley will not be opened at this time. Instead, the issue of opening a filing window for this channel will be addressed by the Commission in a subsequent order.

DATES: Effective July 31, 2000.

FOR FURTHER INFORMATION CONTACT: Leslie K. Shapiro, Mass Media Bureau, (202) 418-2180.

SUPPLEMENTARY INFORMATION: This is a synopsis of the Commission's Report and Order, MM Docket No. 99-271, adopted June 7, 2000, and released June 16, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

Channel 274C can be allotted to Boulder City in compliance with the Commission's minimum distance separation requirements at Station KSTJ's presently licensed transmitter site, 35-59-45 North Latitude; 114-51-51 West Longitude. Channel 289C can be allotted to Dolan Springs with a site restriction of 27 kilometers (17 miles) north, at coordinates 35-50-00 NL; 114-19-00 WL, to accommodate Mag Mile's desired transmitter site. Channel 272C2 can be allotted to Lake Havasu City at Station KJJJ's licensed transmitter site, at coordinates 34-33-06 NL; 114-11-37 WL. Channel 224C1 can be allotted to Kingman at Station KRCY's licensed transmitter site, at coordinates 35-01-58 NL; 114-21-57 WL. Channel 240A can be allotted to Mohave Valley without the imposition of a site restriction, at coordinates 34-55-40 NL; 114-35-51 WL. Channel 273A can be allotted to Ludlow at Station KDUQ's licensed transmitter site, at coordinates 34-43-21 NL; 116-10-04 WL. Mexican concurrence in the allotments at Kingman, Lake Havasu City and Ludlow have been obtained since they are located within 320 kilometers (199 miles) of the U.S.-Mexican border. Concurrence in the allotment at Mohave Valley has been requested but not yet received. Therefore, if a construction permit is granted prior to receipt of formal concurrence in the allotment by the Mexican Government, the construction permit will include the following condition: “Operation with the facilities specified herein is subject to modification, suspension or termination without right to a hearing, if found by the Commission to be necessary in order to conform to the USA-Mexico FM Broadcasting Agreement.”

List of Subjects in 47 CFR Part 73

Radio broadcasting.

Part 73 of title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under Arizona, is amended by removing Bullhead City, Channel 274C; adding Dolan Springs, Channel 289C; removing Channel 290C1 and adding Channel 224C1 at Kingman; removing Channel 224C2 and adding Channel 272C2 at Lake Havasu City; adding Mohave Valley, Channel 240A.

3. Section 73.202(b), the Table of FM Allotments under California, is amended by removing Channel 289A and adding Channel 273A at Ludlow.

4. Section 73.202(b), the Table of FM Allotments under Nevada, is amended by removing Channel 288C2 and adding Channel 274C at Boulder City.

Federal Communications Commission.
John A. Karousos,
Chief, Allocations Branch, Policy and Rules Division, Mass Media Bureau.

[FR Doc. 00-18291 Filed 7-19-00; 8:45 am]

BILLING CODE 6712-01-P